DEPARTMENT OF HOMELAND SECURITY

Federal Emergency Management Agency

[Docket ID FEMA-2007-0008]

National Advisory Council; Meeting

AGENCY: Federal Emergency Management Agency, Department of Homeland Security.

ACTION: Notice of open Federal advisory committee meeting.

SUMMARY: The Federal Emergency Management Agency's National Advisory Council (NAC) will meet on Sept. 25-26, 2024 to publicly consider, deliberate and vote upon draft recommendations developed by NAC subcommittees in 2024. This meeting will be open to the public through virtual means and, space permitting, to in-person attendance requests.

DATES: The NAC plans to meet and invite the public to watch and participate by virtual means from noon to 4:15 p.m. Eastern Time (ET) on Wednesday, Sept. 25; and from 1 p.m. to 5:15 p.m. ET on Thursday, Sept. 26. The meeting may pause for breaks or continue past the scheduled end time or may end early any day that the NAC has completed its business.

ADDRESSES: Anyone who wishes to participate virtually must register with FEMA in advance by providing their name, official title, organization, telephone number, and email address to the person listed in the FOR FURTHER INFORMATION CONTACT section below by 3 p.m. ET on Friday, Sept. 20. Anyone willing to meet the access requirements of the secure facility at 1015 Half St. SE, Washington, DC 20003 at which this meeting will be held may request to be considered for in-person participation, space permitting, if the request is received by 3 p.m. on Wednesday, Sept. 18. All members of the public are urged to provide written comments on the issues to be considered by the NAC in advance. The topic areas are indicated in the SUPPLEMENTARY INFORMATION section below. Any written comments must be submitted and received by 3 p.m. ET on Friday, Sept. 20, identified by Docket ID FEMA-2007-0008, and submitted via the Federal eRulemaking Portal at http://www.regulations.gov, following the instructions for submitting comments below.

Instructions for Submitting Comments: All submissions must include the words “Federal Emergency Management Agency” and the docket number (Docket ID FEMA-2007-0008) for this action. Comments received, including any personal information provided, will be posted without alteration at http://www.regulations.gov. For access to the docket or to read comments received by the NAC, go to http://www.regulations.gov, and search for Docket ID FEMA-2007-0008.

An open public comment period is anticipated on Thursday, Sept. 26, from 5 to 5:15 p.m. ET. All speakers must register in advance of the meeting to ensure their place, first-come, first-served, in the open public comment period. Speakers must limit their comments to three minutes. Comments should be addressed to the NAC. Comments unrelated to posted agenda topics will not be considered. To register to make remarks during the public comment period, contact the person listed in the FOR FURTHER INFORMATION CONTACT section below by 3 p.m. ET on Friday, Sept. 20. Please note that the open public comment period may end before the time indicated, following the last call for comments. The Designated Federal Officer may, as time permits during the meeting, offer additional opportunities for public participant comments on Wednesday, Sept. 25 and Thursday, Sept. 26.

The NAC is committed to ensuring all participants have equal access regardless of disability status. If you require a reasonable accommodation due to a disability to fully participate, please contact the individual listed in the FOR FURTHER INFORMATION CONTACT section below as soon as possible. Last-minute requests will be accepted but may not be possible to fulfill.

FOR FURTHER INFORMATION CONTACT: Rob Long, Designated Federal Officer, Office of the National Advisory Council, Federal Emergency Management Agency, 500 C St. SW, Washington, DC 20472-3184, 202-646-2700, FEMA-NAC@fema.dhs.gov. The NAC website is https://www.fema.gov/about/offices/national-advisory-council.

SUPPLEMENTARY INFORMATION: Notice of this meeting is given under the Federal Advisory Committee Act, 5 U.S.C. ch. 10.

The NAC advises the FEMA Administrator on all aspects of emergency management. The NAC includes and incorporates input from a cross-section of officials, emergency managers, and emergency response providers from state, local, Tribal and territorial governments, the private sector, and nongovernmental organizations.

Agenda: On Wednesday, Sept. 25, the NAC subcommittees on climate, gender-based violence, and readiness and workforce, will present to the full NAC on their final annual recommendations. Additionally, the NAC will deliberate and vote on recommendations from the Preliminary Damage Assessment Advisory Panel. On Thursday, Sept. 26, the NAC will deliberate and vote on adoption of NAC 2024 recommendations not already adopted the prior day. The public meeting agenda and any preparatory materials will be available on Friday, Sept. 20 at https://www.fema.gov/about/offices/national-advisory-council.

Deanne Criswell,
Administrator, Federal Emergency Management Agency.

[FR Doc. 2024-20188 Filed 9-6-24; 8:45 am]

BILLING CODE 9111-48-P